DEPARTMENT OF TRANSPORTATION

Federal Aviation Administration

14 CFR Part 71

[Docket No. FAA-2005-21381; Airspace Docket No. 05-ASW-2]

RIN 2120-AA66

Establishment of Area Navigation Routes; Southwestern and South Central United States

AGENCY: Federal Aviation Administration (FAA), DOT.

ACTION: Final rule.

SUMMARY: This action establishes three area navigation (RNAV) routes over Southwestern and South Central United States in support of the High Altitude Redesign (HAR) program. The FAA is taking this action to enhance safety and to improve the efficient use of the navigable airspace.

DATES: Effective Date: 0901 UTC, February 16, 2006.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

Background

On June 22, 2005, the FAA published in the Federal Register a notice of proposed rulemaking to establish three RNAV routes (Q-20, Q-22, and Q-24) over Southwestern and South Central United States in support of the HAR program (70 FR 36085). The FAA believes that establishing Q-20, Q-22, and Q-24 will provide greater freedom to properly equipped users and to achieve the economic benefits of flying user-selected, non-restrictive routings.

Interested parties were invited to participate in this rulemaking effort by submitting written comments on the proposal to the FAA. No comments were received in response to the proposal. With the exception of editorial changes, this amendment is the same as that proposed in the notice.

High Altitude RNAV routes are published in paragraph 2006 of FAA Order 7400.9N dated September 1, 2005, and effective September 15, 2005, which is incorporated by reference in 14 CFR 71.1. The high altitude RNAV routes listed in this document will be published subsequently in the order.

The Rule

This action amends Title 14 Code of Federal Regulations (14 CFR) part 71 by establishing three RNAV routes (Q-20, Q-22, and Q-24) over the Southwestern and South Central United States within the airspace assigned to the Albuquerque and Fort Worth Air Route Traffic Control Centers (ARTCC). The FAA believes that this action will enhance safety and facilitate the more flexible and efficient use of the navigable airspace for en route instrument flight rules operations within the Albuquerque and the Fort Worth ARTCCs' areas of responsibility.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with Paragraph 311(a) of FAA Order 1050.1E, Policies and Procedures for Considering Environmental Impacts. This airspace action is not expected to cause any potentially significant impacts, and no extraordinary circumstances exist that warrant preparation of an environmental assessment.

List of Subjects in 14 CFR Part 71

Airspace, Incorporation by Reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 2006—Area Navigation Routes

* * * * *

Q-20 CNX to JCT [New]

CNX VORTAC

(lat. 34°22′01″ N., long. 105°40′41″ W)

HONDS FIX

(lat. 33°33′60″ N., long. 104°51′12″ W)

UNNOS WP

(lat. 32°57′00″ N., long. 103°56′00″ W)

FUSCO WP

(lat. 31°11′02″ N., long. 101°19′30″ W)

JCT VORTAC

(lat. 30°35′53″ N., long. 099°49′03″ W)

* * * * *

Q-22 GUSTI to CATLN [New]

GUSTI FIX

(lat. 29°58′15″ N., long. 092°54′35″ W)

OYSTY FIX

(lat. 30°28′15″ N., long. 090°11′49″ W)

RUBAE WP

(lat. 30°55′27″ N., long. 088°22′11″ W)

CATLN FIX

(lat. 31°18′26″ N., long. 087°34′48″ W)

* * * * *

Q-24 LCH to PAYTN [New]

LCH VORTAC

(lat. 30°08′29″ N., long. 093°06′20″ W)

BTR VORTAC

(lat. 30°29′06″ N., long. 091°17′39″ W)

IRUBE WP

(lat. 31°00′16″ N., long. 088°56′19″ W)

PAYTN FIX

(lat. 31°28′04″ N., long. 087°53′08″ W)

* * * * *

Issued in Washington, DC, on December 8, 2005.
Edith V. Parish,
Manager, Airspace and Rules.

[FR Doc. 05-24069 Filed 12-14-05; 8:45 am]

BILLING CODE 4910-13-P